FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed revised information collections. In accordance with the Paperwork Reduction Act of 1995 (44 U.S.C. 3506(c)(2)(A)), this notice seeks comments concerning the Elevation Certificate and the Floodproofing Certificate. The Elevation certificate is required by the NFIP to certify the elevations of the buildings so the policy can be properly rated. It also provides documentation to verify the community's enforcement of building ordinances, which is important to the NFIP mitigation and floodplain management activities.

ADDRESSES: Interested persons should submit written comments to Muriel B. Anderson, Chief, Records Management Section, Program Services and Systems Branch, Facilities Management and Services Division, Administration and Resource Planning Directorate, Federal Emergency Management Agency, 500 C Street, SW., Room 316, Washington, DC 20472.

FOR FURTHER INFORMATION CONTACT: Contact Jhun de la Cruz, Insurance Examiner, Federal Insurance and Mitigation Administration, (202) 646-2650 for additional information. You may contact Ms. Anderson for copies of the proposed collection of information at telephone number (202) 646-2625 or facsimile number (202) 646-3347 or e-mail muriel.anderson@fema.gov.

SUPPLEMENTARY INFORMATION: The National Flood Insurance Program (NFIP) regulations require the elevation or floodproofing of newly constructed structures in designated special flood hazard areas. As part of the agreement for making flood insurance available in a community, the NFIP requires the community to adopt a floodplain management ordinance containing certain minimum requirements intended to reduce future flood losses. One such requirement is that the community require that residential buildings be elevated to above the base flood elevation and, to enforce this requirement, obtain the elevation of the lowest floor (including basement) of all new and substantially improved structures, and maintain a record of all such information. These data should be generated and retained as part of the community's permit issuance and building inspection processes. The Elevation Certificate is one convenient way for a community to comply with this requirement; however, it is not prescribed. The Floodproofing Certificate may similarly be used to establish the required record in those instances when floodproofing for non-residential structures is a permitted practice.

The Elevation Certificate/Floodproofing Certificate is an adjunct to the application for flood insurance and is required for proper rating of Post-FIRM structures, which are buildings constructed after publication of the Flood Insurance Rate Map (FIRM), for flood insurance in Special Flood Hazard Areas (44 CFR 61.7,61.8). In addition, the Elevation Certificate is needed for Pre-FIRM structures being rated under Post-FIRM flood insurance rules. The standardized format of the Elevation

Certificate and Floodproofing Certificate for Non-Residential Structures (FEMA Forms 81-31 and 81-65) provide the community officials and others documents, which may be used to readily record needed information.

Collection of Information

Title: Post Construction Elevation Certificate/FloodProofing Certificate.

Type of Information Collection: Revision of a currently approved collection.

OMB Number: 3067-0077.

Form Numbers: FEMA Form 81-31, Elevation Certificate, and FEMA Form 81-65, Flood Proofing Certificate.

Abstract: The Elevation Certificate and Floodproofing Certificate are adjuncts to the application for flood insurance. The certificates are required for proper rating of post Flood Insurance Rate Map (FIRM) structures, which are buildings constructed after publication of the FIRM, for flood insurance in Special Flood Hazard Areas. In addition, the Elevation Certificate is needed for pre-FIRM structures being rated under post-FIRM flood insurance rules. The certificates provide community officials and others standardized documents to readily record needed information.

The certificates are supplied to insurance agents, community officials, surveyors, engineers, architects, and NFIP policyholders/applicants. The community officials or other professionals provided the elevation data required to document conformance with floodplain management regulations and for the applicants so that actuarial insurance rates can be charged for insuring property against the flood hazard.

Affected Public: Individuals or Households, Business or Other For-Profit, Not-For-Profit Institutions, Farms, and State, Local or Tribal Governments.

Estimated Total Annual Burden (C) Hours
FEMA forms | Number of respondents (A) | Frequency of response (B) | Hours per response | Annual burden hours (A × B × C)
81-31 | 54,515 | 1 | 3 | 63,545
81-65 | 180 | 1 | 3.25 | 910
Total | 54,695 |  |  | 164,455

Estimated Cost: The estimated annual cost to the respondents is approximately $12,306,375 (54,695 × $225 (average cost)). This estimated cost is based on a fee of $150$300 charged to the applicant by the private sector professional completing the Elevation or Floodprooofing certificates. The estimated annual cost to the Federal government to process, analyze and maintain this information is approximately $77,485.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

Dated: July 3, 2002.
Reginald Trujillo,
Branch Chief, Program Services and Systems Branch, Facilities Management and Services Division, Administration and Resource Planning Directorate.

[FR Doc. 02-17555 Filed 7-11-02; 8:45 am]

BILLING CODE 6718-01-P